SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before December 22, 2023.

ADDRESSES: Send all comments to Paul Kirwin, Financial Analyst, Office Credit Risk Management, Small Business Administration, Washington, DC 20416.

FOR FURTHER INFORMATION CONTACT: Paul Kirwin, Financial Analyst, Office of Credit Risk Management, paul.kirwin@sba.gov, 202-205-7261 or Curtis B. Rich, Agency Clearance Officer, 202-205-7030, curtis.rich@sba.gov.

SUPPLEMENTARY INFORMATION: The information will be collected from lending institutions interested in becoming an SBA Supervised Lender. SBA will use the information regarding the institutions' financial condition, lending experience, credit policies, capital adequacy plan, financial statements, credit facilities, and loan risk ratings system, among other things, to determine their eligibility to participate in SBA's 7(a) Loan Program.

Solicitation of Public Comments

SBA is removing duplicate sale data, reformatting sale data for ease of use, and amending sections for clarity. SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0410.

Title: SBA Supervised Lender.

Description of Respondents: SBA Lenders.

Form Number: SBA Forms 2498, 2499.

Total Estimated Annual Responses: 4.

Total Estimated Annual Hour Burden: 340.

Curtis Rich,
Agency Clearance Officer.

[FR Doc. 2023-23362 Filed 10-20-23; 8:45 am]

BILLING CODE 8026-09-P